DEPARTMENT OF TRANSPORTATION

Federal Motor Carrier Safety Administration

[Docket No. FMCSA-2025-0556]

Agency Information Collection Activities; Renewal of an Approved Information Collection: Unified Registration System, FMCSA Registration/Updates

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the previously approved ICR now titled “Unified Registration System, FMCSA Registration/Updates,” OMB Control No. 2126-0051. This ICR applies to new registrants seeking initial registration and operating authority registration from FMCSA. New registrants seeking to register with FMCSA must use online Form MCSA-1, accessible via the Unified Registration System (URS).

DATES: Comments on this notice must be received on or before January 16, 2026.

ADDRESSES: You may submit comments identified by Docket Number FMCSA-2025-0556 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Mr. Jeffrey Secrist, Office of Registration, Chief, Registration Division, DOT, FMCSA, 1200 New Jersey Avenue SE, Washington, DC 20590-0001; (202) 385-2367; jeff.secrist@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0556), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0556/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 44 United State Code (U.S.C.) 3506(c)(2), DOT solicits comments from the public to better inform its information collection process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

FMCSA registers for-hire motor carriers of regulated commodities and of passengers, under 49 U.S.C. 13902(a); surface freight forwarders, under 49 U.S.C. 13903; property brokers, under 49 U.S.C. 13904; and certain Mexico-domiciled motor carriers, under 49 U.S.C. 13902(c). These motor carriers may conduct transportation services in the United States only if they are registered with FMCSA. Each registration is effective from the date specified and remains in effect for such period as the Secretary of Transportation (Secretary) determines by regulations.

The final rule titled “Unified Registration System,” (78 FR 52608) dated August 23, 2013, implemented statutory provisions for an online registration system for entities that are subject to FMCSA's licensing, registration, and certification regulations. URS streamlines the registration process and serves as a clearinghouse and repository of information on motor carriers, brokers, freight forwarders, intermodal equipment providers, hazardous materials safety permit applicants, and cargo tank facilities required to register with FMCSA. When developing URS, FMCSA planned that the OP-1 series of forms (except for OP-1(MX)) would ultimately be folded into one overarching form (MCSA-1), which would be used by all motor carriers seeking authority.

FMCSA began a phased rollout of URS in 2015. The first phase, which became effective on December 12, 2015, impacts only first-time applicants seeking an FMCSA-issued registration. FMCSA had planned subsequent rollout phases for existing registrants; however, there have been substantial delays, and subsequent phases have not been rolled out to date.

On January 17, 2017, FMCSA issued a final rule titled “Unified Registration System; Suspension of Effectiveness,” which indefinitely suspended URS effectiveness dates for existing registrants only (82 FR 5292). Pursuant to this final rule, FMCSA is still accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones.

As described above, only first-time applicants seeking an FMCSA-issued registration must apply via URS, using Form MCSA-1. Under URS, all forms described in the current ICR, except OP-1(MX), are folded into Form MCSA-1. Information collection activities associated with the OP-1 series of forms are covered under a different ICR, titled “Licensing Applications for Motor Carrier Operating Authority,” OMB Control No. 2126-0016.

Form MCSA-1 requests information to identify the applicant, the nature and scope of its proposed operations, safety-related details, and information regarding the drivers and vehicles it plans to use in U.S. operations. FMCSA and the States use registration information collected via Form MCSA-1 to track motor carriers, freight forwarders, brokers, and other entities they regulate. Registering motor carriers is essential to being able to identify carriers so that their safety performance can be tracked and evaluated. The data make it possible to link individual trucks to the responsible motor carrier, thus implementing the mandate under 49 U.S.C. 31136(a)(1); that is, ensuring that CMVs are maintained and operated safely). In general, registration information collected via Form MCSA-1 informs prioritization of the Agency's activities and aids in assessing and statistically analyzing the safety outcomes of those activities.

The current information collection supports the DOT Strategic Goal of Safety. It streamlines registration processes and ensures that FMCSA can more efficiently track motor carriers, freight forwarders, brokers, and other entities regulated by the Agency.

Title: Unified Registration System, FMCSA Registration/Updates.

OMB Control Number: 2126-0051.

Type of Request: Renewal of a currently approved ICR.

Respondents: Carrier compliance officer or equivalent from transportation entities subject to FMCSA's licensing, registration, and certification regulations.

Estimated Number of Respondents: 549,782 (183,261 per year).

Estimated Time per Response: 1.34 hours.

Expiration Date: May 31, 2026.

Frequency of Response: One-time information collection.

Estimated Total Annual Burden: 736,708 hours (245,569 per year).

The estimated annual respondents/responses for Form MCSA-1 increased from 94,619 in the previously approved ICR to 183,261 in the current ICR. The estimated annual burden hours for Form MCSA-1 increased by 118,780 hours [245,569 proposed hours−126,789 currently approved hours = 118,780 hours]. This estimate is based off the increased number of respondents/responses calculated based on the number of new entrants who applied using Form MCSA-1 during calendar years 2022, 2023, and 2024, which results in these estimates of annual respondents/responses and burden hours for the upcoming information collection period.

The estimated labor costs for industry have increased by $7,240,851 annually [$12,713,084 in proposed costs−$5,472,233 currently approved costs = $7,240,851]. This change is also due to the increased estimates of annual respondents/responses.

For the Federal Government, estimated annual labor and information technology costs have increased by $168,982 [$6,453,612 in proposed costs−$5,946,667 in previously approved costs = $506,945/3 years = $168,982]. This change is also due to the increased estimates of annual respondents/responses.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Nicole Michel,
Acting Associate Administrator, Office of Research and Registration.

[FR Doc. 2025-19977 Filed 11-14-25; 8:45 am]

BILLING CODE 4910-EX-P